DEPARTMENT OF DEFENSE

Office of the Secretary

[Docket ID DoD-2020-OS-0068]

Proposed Collection; Comment Request

AGENCY: National Defense University, Department of Defense (DoD).

ACTION: Information collection notice.

SUMMARY: In compliance with the Paperwork Reduction Act of 1995, the National Defense University announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 2, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Defense University, 300 5th Avenue SW Building 62, Washington, DC, ATTN: LTC Ann Summers, or call (202) 685-3323.

SUPPLEMENTARY INFORMATION:

Title; Associated Form; and OMB Number: College of International Security Affairs Out-Processing Information Form; OMB Control Number 0704-XXXX.

Needs and Uses: The information is needed for end-of-year event efforts (student-led symposium and graduation) as well as for the organization's alumni database. The collection is to ensure accurate student data is in our records upon departure from the organization. The collection instrument verifies information such as correct title/rank, name spelling, country of origin, organization/branch of service, title of individual research paper, if the student wishes to be involved in the organization's alumni network (yes/no response), personal contact information (phone number and email address), and career information (prior to joining organization and future career path after graduating). It is also utilized for alumni outreach and engagement. The data is shared with the appropriate persons—Thesis Director for symposium, Registrar for graduation, and Director of Outreach for alumni data.

Affected Public: Individuals and Households, Foreign Nationals.

Annual Burden Hours: 6.7 hours.

Number of Respondents: 40.

Responses per Respondent: 1.

Annual Responses: 40.

Average Burden per Response: 10 minutes.

Frequency: Annually.

Dated: August 27, 2020.
Aaron T. Siegel,
Alternate OSD Federal Register Liaison Officer, Department of Defense.

[FR Doc. 2020-19295 Filed 8-31-20; 8:45 am]

BILLING CODE 5001-06-P